DEPARTMENT OF AGRICULTURE

Forest Service

Flathead Resource Advisory Committee

AGENCY: Forest Service, USDA.

ACTION: Notice of meetings.

SUMMARY: The Flathead Resource Advisory Committee will meet in Kalispell, Montana. The committee is meeting as authorized under the Secure Rural Schools and Community Self-Determination Act (Pub. L. 110-343) and in compliance with the Federal Advisory Committee Act. The purpose of the meeting is to hear project proposal presentations for 2012.

DATES: The meetings will be held September 6, 13, 20 and 27, 2011. Each meeting will be held 5-8 p.m.

ADDRESSES: The meeting will be held at 650 Wolfpack Way, Flathead National Forest Office, Kalispell, MT. Written comments should be sent to Flathead National Forest, Attn: RAC, 650 Wolfpack Way, Kalispell, MT 59901. Comments may also be sent via e-mail to ckendall@fs.fed.us or via facsimile to 406-758-5351.

All comments, including names and addresses when provided, are placed in the record and are available for public inspection and copying. The public may inspect comments received at 650 Wolfpack Way, Kalispell, MT. Visitors are encouraged to call ahead to 406-758-6485 to facilitate entry into the building.

FOR FURTHER INFORMATION CONTACT: Craig Kendall, Flathead National Forest, 406.758.6485.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: presentation of project proposals and approval of projects. Persons who wish to bring related matters to the attention of the Committee may file written statements with the Committee staff before or after the meeting. Public input sessions will be provided and individuals who made written requests by three calendar days prior to the meeting will have the opportunity to address the Comittee at those sessions.

Dated: August 15, 2011.
Chip Weber,
Forest Supervisor, Flathead National Forest.

[FR Doc. 2011-21344 Filed 8-19-11; 8:45 am]

BILLING CODE 3410-11-P